DEPARTMENT OF COMMERCE

Bureau of Economic Analysis

[Docket No. 140113032-4032-01]

BE-45: Quarterly Survey of Insurance Transactions by U.S. Insurance Companies With Foreign Persons

AGENCY: Bureau of Economic Analysis, Commerce.

ACTION: Notice of Reporting Requirements.

SUMMARY: By this Notice, the Bureau of Economic Analysis (BEA), Department of Commerce, is informing the public that it is conducting the mandatory survey titled Quarterly Survey of Insurance Transactions by U.S. Insurance Companies with Foreign Persons (BE-45). This mandatory survey is conducted under the authority of the International Investment and Trade in Services Survey Act.

SUPPLEMENTARY INFORMATION: This Notice constitutes legal notification to all United States persons (defined below) who meet the reporting requirements set forth in this Notice that they must respond to, and comply with, the survey. Reports are due 60 days after the end of the U.S. person's fiscal quarter, except for the final quarter of the U.S. person's fiscal year when reports must be filed within 90 days. This notice is being issued in conformance with the rule BEA issued in 2012 (77 FR 24373) establishing guidelines for collecting data on international trade in services and direct investment through notices, rather than through rulemakings. The BE-45 survey forms and instructions are available on the BEA Web site at www.bea.gov/surveys/iussurv.htm.

Definitions

(a) Person means any individual, branch, partnership, associated group, association, estate, trust, corporation, or other organization (whether or not organized under the laws of any State), and any government (including a foreign government, the United States Government, a State or local government, and any agency, corporation, financial institution, or other entity or instrumentality thereof, including a government-sponsored agency).

(b) United States person means any person resident in the United States or subject to the jurisdiction of the United States.

(c) Foreign person means any person resident outside the United States or subject to the jurisdiction of a country other than the United States.

Who Must Report: Reports are required from U.S. persons whose covered transactions: (a) Exceeded $8 million (positive or negative) in the prior fiscal year or (b) are expected to exceed that amount during the current fiscal year. Entities required to report will be contacted individually by the Bureau of Economic Analysis (BEA). Entities not contacted by BEA have no reporting responsibilities.

What To Report: The survey is intended to collect information on cross-border insurance transactions between U.S. insurance companies and foreign persons. The survey is intended to collect information on transactions in the covered services occurring in the last quarter of calendar year 2013 and in the first three quarters of calendar year 2014.

How To Report: Reports can be filed via BEA's electronic reporting system at www.bea.gov/efile. Additionally, copies of the survey forms and instructions, which contain complete information on reporting procedures and definitions, can be obtained from the BEA Web site at www.bea.gov/surveys/iussurv.htm. Inquiries can be made to BEA at (202) 606-5588.

When To Report: Reports are due to BEA 60 days after the end of the fiscal quarter, except

for the final quarter of the reporter's fiscal year when reports must be filed within 90 days.

Paperwork Reduction Act Notice: This data collection has been approved by the Office of Management and Budget (OMB) in accordance with the Paperwork Reduction Act and assigned control number 0608-0066. An agency may not conduct or sponsor, and a person is not required to respond to, a collection of information unless it displays a valid control number assigned by OMB. The estimated average annual public reporting burden for this collection of information is 8 hours per response. Send comments regarding this burden estimate to Director, Bureau of Economic Analysis (BE-1), U.S. Department of Commerce, Washington, DC 20230; and to the Office of Management and Budget, Paperwork Reduction Project 0608-0066, Washington, DC 20503.

Authority: 22 U.S.C. 3101-3108, as amended.

J. Steven Landefeld,
Director, Bureau of Economic Analysis.

[FR Doc. 2014-04454 Filed 2-27-14; 8:45 am]

BILLING CODE 3510-06-P